DEPARTMENT OF HEALTH AND HUMAN SERVICES

Centers for Medicare & Medicaid Services

42 CFR Parts 412, 413, 425, 455, and 495

[CMS-1752-CN]

RIN 0938-AU44

Medicare Program; Hospital Inpatient Prospective Payment Systems for Acute Care Hospitals and the Long-Term Care Hospital Prospective Payment System and Proposed Policy Changes and Fiscal Year 2022 Rates; Quality Programs and Medicare Promoting Interoperability Program Requirements for Eligible Hospitals and Critical Access Hospitals; Proposed Changes to Medicaid Provider Enrollment; and Proposed Changes to the Medicare Shared Savings Program; Correction

AGENCY: Centers for Medicare & Medicaid Services (CMS), Department of Health and Human Services (HHS).

ACTION: Proposed rule; correction.

SUMMARY: This document corrects technical and typographical errors in the proposed rule that appeared in the May 10, 2021 Federal Register titled “Medicare Program; Hospital Inpatient Prospective Payment Systems for Acute Care Hospitals and the Long Term Care Hospital Prospective Payment System and Proposed Policy Changes and Fiscal Year 2022 Rates; Quality Programs and Medicare Promoting Interoperability Program Requirements for Eligible Hospitals and Critical Access Hospitals; Proposed Changes to Medicaid Provider Enrollment; and Proposed Changes to the Medicare Shared Savings Program.”

DATES: June 24, 2021.

FOR FURTHER INFORMATION CONTACT:

Katrina Hoadley, katrina.hoadley@cms.hhs.gov, Hospital Inpatient Quality Reporting Program.

Julia Venanzi, julia.venanzi@cms.hhs.gov, Hospital Inpatient Quality Reporting and Hospital Value-Based Purchasing Programs—Administration Issues.

SUPPLEMENTARY INFORMATION:

I. Background

In FR Doc. 2021-08888 of May 10, 2021 (86 FR 25070), there were a number of technical and typographical errors that are identified and corrected in this correcting document.

II. Summary of Errors

On pages, 25473, 25475, 25484, and 25588 we made typographical and technical errors in footnotes and references to statutory citations and other sections of the proposed rule.

On page 25471, in our discussion of the Hospital Value-based Purchasing (VBP) Program, we made errors in numbering the list of proposed Measure Suppression Factors.

On pages 25489, 25491, and 25492, in our discussion of the Hospital VBP Program, we made errors in the achievement thresholds and benchmarks for the clinical outcomes domain performance standards that appear in the three tables.

III. Correction of Errors

In FR Doc. 2021-08888 of May 10, 2021 (86 FR 25070), make the following corrections:

1. On page 25471, second column,

a. First partial paragraph, lines 6 and 7, the sentence “The proposed Measure Suppression Factors are:” is corrected to read “The proposed measure suppression factors are as follows:”.

b. First through fifth full paragraphs, beginning with the phrase “5. Significant deviation” and ending with the phrase “(iii) patient case volumes or facility-level case mix.” are corrected to read as

“• Significant deviation in national performance on the measure during the PHE for COVID-19, which could be significantly better or significantly worse compared to historical performance during the immediately preceding program years.

• Clinical proximity of the measure's focus to the relevant disease, pathogen, or health impacts of the PHE for COVID-19.

• Rapid or unprecedented changes in—

++ Clinical guidelines, care delivery or practice, treatments, drugs, or related protocols, or equipment or diagnostic tools or materials; or

++ The generally accepted scientific understanding of the nature or biological pathway of the disease or pathogen, particularly for a novel disease or pathogen of unknown origin.

• Significant national shortages or rapid or unprecedented changes in—

++ Healthcare personnel;

++ Medical supplies, equipment, or diagnostic tools or materials; or

++ Patient case volumes or facility-level case mix.”

2. On page 25473, third column, first full paragraph, line 2, the phrase “section XX.H.1”, is corrected to read “section V.H.1.”

3. On page 25475, third column, following the last paragraph, the column is corrected by adding footnote text (footnote 957) to read as follows:

“⁹⁵⁷ Zheng, Jun. SARS-CoV-2: an Emerging Coronavirus that Causes a Global Threat. Int J Biol Sci. 2020; 16(10): 1678-1685. Published online 2020 Mar 15. doi: 10.7150/ijbs.45053.”

4. On page 25484, lower two-thirds of the page, the table titled Table V.H.-6: Previously Adopted Baseline and Performance Periods for the FY 2023 Program Year, the last table note, first line, the reference “section XX.X.3.c.” is corrected to read “section V.H.3.c.”.

5. On page 25489, middle of the page, the table titled “Table V.H-11: Previously Established and Estimated Performance Standards for the FY 2024 Program Year”, the entries for the clinical outcomes domain's achievement thresholds and benchmarks are corrected to read as follows:

Table V.H-11—Previously Established and Estimated Performance Standards for the FY 2024 Program Year
Measure short name | Achievement threshold | Benchmark
Clinical Outcomes Domain
MORT-30-AMI # | 0.869247 | 0.887868
MORT-30-HF # | 0.882308 | 0.907733
MORT-30-PN (updated cohort) # | 0.840281 | 0.872976
MORT-30-COPD # | 0.916491 | 0.934002
MORT-30-CABG # | 0.969499 | 0.980319
COMP-HIP-KNEE * # | 0.025396 | 0.018159
• Per our proposal in section V.H.4.b. of the preamble of this proposed rule, the performance standards displayed in this table for the Safety domain measures were calculated using CY 2019 data.
* Lower values represent better performance.
# Previously established performance standards.

6. On page 25491, top half of the page, the table titled “Table V.H-13: Previously Established Performance Standards for the FY 2025 Program Year”, the entries for the clinical outcomes domain's achievement thresholds and benchmarks are corrected to read as follows:

Table V.H-13—Previously Established Performance Standards for the FY 2025 Program Year
Measure short name | Achievement threshold | Benchmark
Clinical Outcomes Domain
MORT-30-AMI | 0.872624 | 0.889994
MORT-30-HF | 0.883990 | 0.910344
MORT-30-PN (updated cohort) | 0.841475 | 0.874425
MORT-30-COPD | 0.915127 | 0.932236
MORT-30-CABG | 0.970100 | 0.979775
COMP-HIP-KNEE * | 0.025332 | 0.017946
* Lower values represent better performance.

7. On page 25492, top half of the page, the table titled “Table V.H-14: Previously Established Performance Standards for the FY 2026 Program Year”, the entries for the clinical outcomes domain's achievement thresholds and benchmarks are corrected to read as follows:

Table V.H-14—Previously Established Performance Standards for the FY 2026 Program Year
Measure short name | Achievement threshold | Benchmark
Clinical Outcomes Domain
MORT-30-AMI | 0.874426 | 0.890687
MORT-30-HF | 0.885949 | 0.912874
MORT-30-PN (updated cohort) | 0.843369 | 0.877097
MORT-30-COPD | 0.914691 | 0.932157
MORT-30-CABG | 0.970568 | 0.980473
COMP-HIP-KNEE * | 0.024019 | 0.016873
* Lower values represent better performance.

8. On page 25588, second column, footnote paragraph (footnote 1232), lines 3 through 5, the phrase “2018: https://www.arthritis.org/Documents/Sections/About-Arthritis/arthritis-facts-stats-figures.pdf. Accessed March 8, 2019.” is corrected to read “2019: https://www.arthritis.org/getmedia/e1256607-fa87-4593-aa8a-8db4f291072a/2019-abtn-final-march-2019.pdf. Accessed May 13, 2021.”

Karuna Seshasai,
Executive Secretary to the Department, Department of Health and Human Services.

[FR Doc. 2021-13481 Filed 6-23-21; 8:45 am]

BILLING CODE 4120-01-P